DEPARTMENT OF THE INTERIOR

Fish and Wildlife Service

[FWS-HQ-IA-2013-N231; FXIA16710900000P5-123-FF09A30000]

Endangered Species; Marine Mammals; Issuance of Permits

AGENCY: Fish and Wildlife Service, Interior.

ACTION: Notice of issuance of permits.

SUMMARY: We, the U.S. Fish and Wildlife Service (Service), have issued the following permits to conduct certain activities with endangered species, marine mammals, or both. We issue these permits under the Endangered Species Act (ESA) and Marine Mammal Protection Act (MMPA).

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION: On the dates below, as authorized by the provisions of the ESA (16 U.S.C. 1531 et seq.), as amended, and/or the MMPA, as amended (16 U.S.C. 1361 et seq.), we issued requested permits subject to certain conditions set forth therein. For each permit for an endangered species, we found that (1) The application was filed in good faith, (2) The granted permit would not operate to the disadvantage of the endangered species, and (3) The granted permit would be consistent with the purposes and policy set forth in section 2 of the ESA.

Permit No. | Applicant | Receipt of application Federal Register notice | Permit issuance date
Endangered Species
10814B | Larry Bell | 78 FR 45954; July 30, 2013 | September 12, 2013.
13216B | Anthony Gaglio | 78 FR 50083; August 16, 2013 | September 25, 2013.
13270B | Shane Erving | 78 FR 50083; August 16, 2013 | September 25, 2013.
Marine Mammals
056326 | Dr. Graham Worthy, University of Central Florida | 78 FR 30325; May 22, 2013 | September 30, 2013.
067925 | U.S. Geological Survey, Alaska Science Center | 78 FR 37562; June 21, 2013 | September 20, 2013.
837923 | Gordon Bauer, New College of Florida | 78 FR 37563; June 21, 2013 | September 30, 2013.
19806A | Thomas Postel | 78 FR 40762; July 8, 2013 | September 27, 2013.
672624 | U.S. Geological Survey, Biological Resources Division, Santa Cruz Field Station | 78 FR 44961; July 25, 2013 | September 13, 2013.
05202B | Renegade Pictures | 78 FR 48711; August 9, 2013 | September 11, 2013.

Availability of Documents

Documents and other information submitted with these applications are available for review, subject to the requirements of the Privacy Act and Freedom of Information Act, by any party who submits a written request for a copy of such documents to: Division of Management Authority, U.S. Fish and Wildlife Service, 4401 North Fairfax Drive, Room 212, Arlington, VA 22203; fax (703) 358-2280.

Brenda Tapia,
Program Analyst/Data Administrator, Branch of Permits, Division of Management Authority.

[FR Doc. 2013-24541 Filed 10-21-13; 8:45 am]

BILLING CODE 4310-55-P